DEPARTMENT OF TRANSPORTATION

Federal Aviation Administration

14 CFR Part 39

[Docket No. FAA-2014-0285; Directorate Identifier 2014-NM-035-AD]

RIN 2120-AA64

Airworthiness Directives; Honeywell International Inc. Air Data Pressure Transducers

AGENCY: Federal Aviation Administration (FAA), DOT.

ACTION: Proposed rule; rescission.

SUMMARY: We propose to rescind airworthiness directive (AD) 2012-26-15, which applies to certain Honeywell International Inc. air data pressure transducers as installed on various aircraft. AD 2012-26-15 requires doing various tests or checks of equipment having certain air data pressure transducers, removing equipment if necessary, and reporting the results of the tests or checks. As an option to the tests or checks, AD 2012-26-15 allows removal of affected equipment having certain air data pressure transducers. We issued AD 2012-26-15 to detect and correct inaccuracies of the pressure sensors, which could result in altitude, computed airspeed, true airspeed, and Mach computation errors. AD 2012-26-15 reported that these errors could reduce the ability of the flightcrew to maintain the safe flight of the aircraft and could result in consequent loss of control of the aircraft. Since we issued AD 2012-26-15, we have received new data indicating that the safety risk is lower than originally estimated.

DATES: We must receive comments on this proposed AD by July 14, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to the Mail address above between 9 a.m. and 5 p.m., Monday through Friday, except Federal holidays.

For Honeywell service information identified in this AD, contact Honeywell Aerospace, Technical Publications and Distribution, M/S 2101-201, P.O. Box 52170, Phoenix, AZ 85072-2170; telephone 602-365-5535; fax 602-365-5577; Internet http://www.honeywell.com. For information on the availability of this material at the FAA, call 425-227-1221.

Examining the AD Docket

You may examine the AD docket on the Internet at http://www.regulations.gov by searching for and locating Docket No. FAA-2014-0285; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Sreekant Sarma, Aerospace Engineer, Systems and Equipment Branch, ANM-130L, FAA, Los Angeles Aircraft Certification Office, 3960 Paramount Boulevard, Lakewood, CA 90712-4137; phone: 562-627-5351; fax: 562-627-5210; email: sreekant.sarma@faa.gov.

SUPPLEMENTARY INFORMATION:

Comments Invited

We invite you to send any written relevant data, views, or arguments about this proposed AD. Send your comments to an address listed under the ADDRESSES section. Include “Docket No. FAA-2014-0285; Directorate Identifier 2014-NM-035-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On December 21, 2012, we issued AD 2012-26-15, Amendment 39-17310 (78 FR 1735, January 9, 2013), for certain Honeywell International Inc. air data pressure transducers as installed on various aircraft. AD 2012-26-15 requires doing various tests or checks of equipment having certain air data pressure transducers, removing equipment if necessary, and reporting the results of the tests or checks. As an option to the tests or checks, AD 2012-26-15 allows removal of affected equipment having certain air data pressure transducers. AD 2012-26-15 was prompted by a report of a pressure measurement error in the pressure transducer used in various air data systems, which translates into air data parameter errors. We issued AD 2012-26-15 to detect and correct inaccuracies of the pressure sensors, which could result in altitude, computed airspeed, true airspeed, and Mach computation errors. AD 2012-26-15 reported that these errors could reduce the ability of the flightcrew to maintain the safe flight of the aircraft and could result in consequent loss of control of the aircraft.

Actions Since AD 2012-26-15, Amendment 39-17310 (78 FR 1735, January 9, 2013), Was Issued

We issued AD 2012-26-15, Amendment 39-17310 (78 FR 1735, January 9, 2013), as a “Final rule; request for comments” based on a qualitative review of the data available at that time. That review indicated that a vacuum reference leak (VRL), if not corrected, could affect air data sensor accuracy. Since we issued AD 2012-26-15, the FAA and Honeywell have collected new report data, which indicate that the safety risk is lower than originally estimated. The latest Honeywell data show a leakage rate within the acceptable risk range, so that airworthiness is not affected. Based on this new information, we have determined that AD 2012-26-15 is no longer necessary.

FAA's Conclusions

Upon further consideration, we have determined that AD 2012-26-15, Amendment 39-17310 (78 FR 1735, January 9, 2013), must be rescinded. Accordingly, this proposed AD would rescind AD 2012-26-15. Rescission of AD 2012-26-15 would not preclude the FAA from issuing another related action or commit the FAA to any course of action in the future.

Related Costs

AD 2012-26-15, Amendment 39-17310 (78 FR 1735, January 9, 2013), affects about 90 appliances installed on various aircraft of U.S. registry. The estimated cost of the currently required actions for U.S. operators is set forth in the following table. Rescinding AD 2012-26-15 would eliminate any further costs associated with that AD.

Estimated Required Costs
Action | Labor cost | Parts cost | Cost per product | Cost on U.S. operators
Indicated altitude test | 2 work-hours × $85 per hour = $170 | $0 | $170 | Up to $15,300.
Removal | 2 work-hours × $85 per hour = $170 | 0 | 170 | Up to $15,300.
Pitot static certification test | 3 work-hours × $85 per hour = $255 | 0 | 255 | Up to $22,950.
Air Data Modules check or test | 2 work-hours × $85 per hour = $170 | 0 | 170 | Up to $15,300.

Estimated On-Condition Costs
Action | Labor cost | Parts cost | Cost per product
Pressure sensor test | 2 work-hours × $85 per hour = $170 | $0 | $170
Removal | 2 work-hours × $85 per hour = $170 | 0 | 170

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866;

(2) Is not a “significant rule” under the DOT Regulatory Policies and Procedures (44 FR 11034, February 26, 1979);

(3) Will not affect intrastate aviation in Alaska; and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing airworthiness directive (AD) 2012-26-15, Amendment 39-17310 (78 FR 1735, January 9, 2013), and adding the following new AD:

Honeywell International Inc.: Docket No. FAA-2014-0285; Directorate Identifier 2014-NM-035-AD.

(a) Comments Due Date

The FAA must receive comments on this AD action by July 14, 2014.

(b) Affected ADs

This action rescinds AD 2012-26-15, Amendment 39-17310 (78 FR 1735, January 9, 2013).

(c) Applicability

This action applies to air data pressure transducers, as installed in air data computers (ADC), air data modules (ADM), air data attitude heading reference systems (ADAHRS), and digital air data computers (DADC) having the part numbers and serial numbers identified in Honeywell Alert Service Bulletin ADM/ADC/ADAHRS-34-A01, dated November 6, 2012. This appliance is installed on, but not limited to, the aircraft specified in paragraphs (c)(1) through (c)(16) of this AD.

(1) Airbus Model A318-111, -112, -121, and -122 airplanes.

(2) Airbus Model A319-111, -112, -113, -114, -115, -131, -132, and -133 airplanes.

(3) Airbus Model A320-111, -211, -212, -214, -231, -232, and -233 airplanes.

(4) Airbus Model A321-111, -112, -131, -211, -212, -213, -231, and -232 airplanes.

(5) Airbus Model A330-223F, -243F, -201, -202, -203, -223, -243, -301, -302, -303, -321, -322, -323, -341, -342, and -343 airplanes.

(6) Airbus Model A340-211, -212, -213, -311, -312, -313, -541, and -642 airplanes.

(7) AGUSTA S.p.A. Model AW139 helicopters.

(8) Bell Helicopter Textron Canada Limited Model 429 helicopters.

(9) The Boeing Company Model 767-200, -300, -300F, and -400ER series airplanes; and Model 777-200, -200LR, -300, -300ER, and 777F series airplanes.

(10) Cessna Aircraft Company Model 560XL (560 Excel and 560 XLS) airplanes.

(11) Dassault Aviation Model MYSTERE-FALCON 900 airplanes and Model FALCON 2000 airplanes.

(12) Empresa Brasileira de Aeronautica S.A. (EMBRAER) Model EMB-135BJ airplanes.

(13) Gulfstream Aerospace Corporation Model GIV-X and GV-SP airplanes.

(14) Learjet Inc. Model 45 airplanes.

(15) PILATUS AIRCRAFT LTD. Model PC-12/47E airplanes.

(16) Viking Air Limited (Type Certificate previously held by Bombardier Inc.; de Havilland, Inc.) Model (Twin Otter) DHC-6-400 airplanes.

(d) Subject

Air Transport Association (ATA) of America Code 34, Navigation.

Issued in Renton, Washington, on May 16, 2014.
Michael Kaszycki,
Acting Manager, Transport Airplane Directorate, Aircraft Certification Service.

[FR Doc. 2014-12256 Filed 5-27-14; 8:45 am]

BILLING CODE 4910-13-P